DEPARTMENT OF JUSTICE

Notice of Lodging of Stipulation Modifying Settlement Under the Clean Air Act

Notice is hereby given that on February 2, 2007, a proposed Stipulation and Order modifying the Consent Decree in United States v. City of New York, Civil No. 99-2207, has been lodged with the United States District Court for the Southern District of New York.

The original Consent Decree resolved the government's claims against New York City and the New York Department of Sanitation (collectively, the “City”) for violations of the Clean Air Act arising from the City's improper disposal of appliances containing ozone-depleting substances. The proposed stipulation provides for the City to perform a Supplemental Environmental Project (“SEP”) comprising an urban forest project in lieu of two SEPs required under the original Consent Decree.

The Department of Justice will receive for a period of thirty (30) days from the date of this publication comments relating to the Stipulation and Order. Comments should be addressed to the Assistant Attorney General, Environment and Natural Resources Division, P.O. Box 7611, U.S. Department of Justice, Washington, DC 20044-7611, and should refer to U.S. v. City of New York, D.J. Ref. 90-5-2-1-06471.

The Stipulation and Order may be examined at the Office of the United States Attorney, 86 Chambers Street, 3rd Fl., New York, NY 10007, and at the Region II Office of the U.S. Environmental Protection Agency, Region II Records Center, 290 Broadway, 17th Floor, New York, NY 10007-1866. During the public comment period, the Stipulation and Order may also be examined on the following Department of Justice Web site: http://www.usdoj.gov/enrd/Consent_Decrees.html. A copy of the Stipulation and Order may also be obtained by mail from the Consent Decree Library, P.O. Box 7611, U.S. Department of Justice, Washington, DC 20044-7611 or by faxing or e-mailing a request to Tonia Fleetwood (tonia.fleetwood@usdoj.gov, fax no. (202) 514-0097, phone confirmation number (202) 514-1547. In requesting a copy from the Consent Decree Library, please enclose a check in the amount of $5.25 (25 cents per page reproduction cost) payable to the U.S. Treasury or, if by e-mail or fax, forward a check in that amount to the Consent Decree Library at the stated address.

Ronald G. Gluck,
Assistant Chief, Environmental Enforcement Section, Environment and Natural Resources Division.

[FR Doc. 07-687 Filed 2-14-07; 8:45 am]

BILLING CODE 4410—15—M